DEPARTMENT OF AGRICULTURE

Food Safety and Inspection Service

9 CFR Part 352

[Docket No. 05-036C; FDMS No. 2005-0040]

RIN 0583-AD21

Ante-Mortem Inspection of Horses; Correction

AGENCY: Food Safety and Inspection Service, USDA.

ACTION: Interim final rule; correction.

SUMMARY: This document corrects the preamble to an interim final rule published in the Federal Register on February 8, 2006, amending the Federal meat inspection regulations to provide for a voluntary fee-for-service program under which official establishments that slaughter horses will be able to apply for and pay for ante-mortem inspection. This correction states that the FY 2006 Appropriations Act will be in effect until October 1, 2006 (the first day of FY 2007).

FOR FURTHER INFORMATION CONTACT: Lynn Ellen Dickey, PhD, Director, Regulations and Petitions Policy Staff, Office of Policy, Program, and Employee Development, Food Safety and Inspection Service, 300 12th Street, SW., Room 112 Cotton Annex Building, Washington, DC 20250-3700, (202) 720-5627.

Correction

In the interim final rule, entitled Ante-Mortem Inspection of Horses (FSIS docket number 05-036IF), beginning on page 6337 in the issue of February 8, 2006, make the following correction, in the SUPPLEMENTARY INFORMATION section. On page 6339 in the 3rd column, revise the first sentence of the second paragraph to read as follows:

“The FY 2006 Appropriations Act will be in effect until October 1, 2006 (the first day of FY 2007).”

Additional Public Notification

Public awareness of all segments of rulemaking and policy development is important. Consequently, in an effort to ensure that the public and, in particular, minorities, women, and persons with disabilities are aware of this correction, FSIS will announce it on-line through the FSIS Web page located at http://www.fsis.usda.gov/regulations_&_policies/2006_Interim_&_Final_Rules_Index/index.asp.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an e-mail subscription service which provides an automatic and customized notification when popular pages are updated, including Federal Register publications and related documents. This service is available at http://www.fsis.usda.gov/news_and_events/email_subscription/ and allows FSIS customers to sign up for subscription options across eight categories. Options range from recalls to export information to regulations, directives and notices. Customers can add or delete subscriptions themselves and have the option to password protect their account.

Done at Washington, DC, on March 8, 2006.
Barbara J. Masters,
Administrator.

[FR Doc. 06-2418 Filed 3-13-06; 8:45 am]

BILLING CODE 3410-DM-P